FEDERAL DEPOSIT INSURANCE CORPORATION

Sunshine Act Meetings; Notice of Meeting To Be Held With Less Than Seven Days Advance Notice

TIME AND DATE: 10:00 a.m. on October 7, 2025.

PLACE: This Board meeting will be open to public observation by webcast. Visit https://www.fdic.gov/news/board-matters/video.html for a link to the webcast. Members of the media should contact the Office of Communications by Monday, October 6, at mediarequests@fdic.gov to attend in person. FDIC Board Members and staff will participate from FDIC Headquarters, 550 17th Street NW, Washington, DC. Observers requiring auxiliary aids should email DisabilityProgram@fdic.gov to make necessary arrangements.

STATUS: Open to public observation via webcast.

MATTERS TO BE CONSIDERED: The Federal Deposit Insurance Corporation's (FDIC) Board of Directors will meet to consider the following matters:

Discussion Agenda

Notice of Proposed Rulemaking regarding Prohibition on Use of Reputation Risk by Regulators.

Notice of Proposed Rulemaking regarding Unsafe or Unsound Practices, Matters Requiring Attention.

Summary Agenda

No substantive discussion of the following items is anticipated. The Board of Directors will resolve these matters with a single vote unless a member of the Board requests that an item be moved to the discussion agenda.

Summary reports, status reports, and reports of actions taken pursuant to authority delegated by the Board of Directors.

CONTACT PERSON FOR MORE INFORMATION: For further information, please contact Debra A. Decker, Executive Secretary, FDIC, at FDICBoardMatters@fdic.gov.

Authority: 5 U.S.C. 552b.

Dated at Washington, DC, on October 1, 2025.
Federal Deposit Insurance Corporation.
Debra A. Decker,
Executive Secretary.

[FR Doc. 2025-19491 Filed 10-3-25; 4:15 pm]

BILLING CODE 6714-01-P